DEPARTMENT OF ENERGY

Federal Energy Regulatory Commission

[Docket No. AD10-9-000]

Guidance on Simultaneous Transmission Import Limit Studies for the Northwest Region; Notice of Pre-Filing Technical Conference for Northwest Region Transmission Owners

April 5, 2010.

Take notice that Commission staff will convene a telephonic technical conference in the above-referenced proceeding on Tuesday, April 13, 2010 at 1 p.m. (Eastern Standard Time). The conference is expected to last for approximately two hours.

The purpose of the conference is to give transmission owners in the Northwest region an opportunity to ask questions regarding the Simultaneous Transmission Import Limit Studies (SIL) required as part of their updated market power analyses associated with their market based rate authorizations, which are due in June 2010.

Participants are encouraged to review the SIL study requirements beforehand. In particular, participants should review recent Commission orders on SIL studies ¹ and the December 16, 2009 Technical Conference “Guidance on Simultaneous Transmission Import Limit Studies.” To view the archive of the December 16, 2009 Technical Conference follow this link http://www.ferc.gov/EventCalendar/EventDetails.aspx?ID=5001&CalType=%20&CalendarID=116&Date=12/16/2009&View=Listview and click on “free live webcast.” To view the slides from that technical conference, click on “Staff Presentation” at the same webpage.

¹ See, e.g., Carolina Power & Light Company, 128 FERC ¶ 61,039, order on clarification 129 FERC ¶ 61,152 (2009).

The topics to be discussed at this technical conference may include development of seasonal benchmark cases, completeness of SIL study support data files (monitor, contingency, and subsystem files), scaling methodologies, identification of energy transfer limits, transfer distribution factors, OASIS practices, methods to identify available uncommitted generation, application of net area interchange, and alternative methods to adjust net area interchange for a study area with two, non-contiguous first-tier areas.

The technical conference is open to all interested persons but will focus only on the Northwest region transmission owners and their pending updated market power analyses. Interested persons planning to participate in the technical conference are strongly encouraged to submit in writing any questions that they would like addressed at least three days before the technical conference, and preferably sooner.

Please contact Alfred Corbett or Rakesh Batra to receive the phone number and verification code to join the technical conference or to request further information. Requests for the call-in information should be submitted to alfred.corbett@ferc.gov and rakesh.batra@ferc.gov by Friday, April 9, 2010 and include “AD10-9-000 Request for call-in information” in the subject line.

FERC conferences are accessible under section 508 of the Rehabilitation Act of 1973. For accessibility accommodations please send an e-mail to accessibility@ferc.gov or call toll free (866) 208-3372 (voice) or (202) 502-8659 (TTY), or send a fax to (202) 208-2106 with the required accommodations.

Kimberly D. Bose,
Secretary.

[FR Doc. 2010-8216 Filed 4-9-10; 8:45 am]

BILLING CODE 6717-01-P